DEPARTMENT OF HEALTH AND HUMAN SERVICES

Centers for Disease Control and Prevention

[60 Day-13-0841]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Management Information System for Comprehensive Cancer Control Programs—Revision (OMB No. 0920-0841, exp. 1/31/2013)—National Center for Chronic Disease Prevention and Health Promotion (NCCDPHP), Centers for Disease Control and Prevention (CDC).

Background and Brief Description

From 2007-2012, the Centers for Disease Control and Prevention (CDC) provided funding to all 50 states, the District of Columbia, seven tribes/tribal organizations, and seven territories/U.S. Pacific Island jurisdictions through the National Cancer Prevention and Control Program (CDC Funding Opportunity Announcement (FOA) DP07-703). Since 2010, the 65 awardees have used an electronic management information system to submit semi-annual progress reports to CDC (“Management Information System for Comprehensive Cancer Control Programs,” OMB No. 0920-0841, exp. 1/31/2013). The progress reports satisfied federal reporting requirements and allowed CDC to provide targeted technical assistance to awardees while monitoring their activities and progress. The electronic MIS also provided CDC with the capacity to respond in a timely manner to requests for information from the Department of Health and Human Services (HHS), Congress, and other sources.

In June 2012, CDC initiated a new five-year funding cycle (“Cancer Prevention and Control Program for State, Territorial and Tribal Organizations,” CDC FOA DP12-1205). New cooperative agreements were established with all 65 states, territories, and jurisdictions. In addition to maintaining established core cancer prevention and control activities, the new cooperative agreements reflect increased emphasis on awardee-based policy and environmental approaches to improving health outcomes. New performance measures have been developed to monitor these outcomes and are being incorporated into the MIS. Each state- or territory-based program director will continue to submit semi-annual progress reports to CDC.

CDC issued a related but distinct funding opportunity for states and territories that are poised to accelerate the development of their policy and environmental approaches to cancer control (“Demonstrating the Capacity of Comprehensive Cancer Control Programs to Implement Policy and Environmental Cancer Control Interventions,” FOA DP10-1017). Additional cooperative agreements, which are specific to demonstration program objectives, were awarded to 13 of the 65 states, jurisdictions and territories. Demonstration program activities will be aligned with the existing comprehensive cancer control program in a manner that minimizes duplication, capitalizes on existing activities, and fosters rapid implementation, and will be facilitated by a state- or territory-based policy task force coordinator. However, because demonstration program activities are funded under discrete cooperative agreements, CDC will require separate semi-annual progress reports to monitor the activities and resources which are specific to demonstration program objectives.

CDC plans to request OMB approval of modifications to the MIS-based reporting system including: (1) Minor changes to core MIS data elements for all 65 awardees, and (2) separate data collection and progress reporting for demonstration program awardees, and (3) revised burden estimates based on a modified method for estimating respondent burden.

In the initial OMB approval for MIS-based reporting, total respondent burden was based on a long-term average burden per response. CDC acknowledges that response burden actually varies over the award period, with time commitments for data entry and training being greatest during the first six to twelve months of the award period. After initial population of the MIS has been completed, ongoing maintenance of the system is limited to entering changes, progress information, and new activities, and the burden per response decreases substantially. The revised method for estimating respondent burden distinguishes between these phases.

For the 65 state- and territory-based cancer prevention and control programs, CDC estimates the initial burden of populating the MIS at four hours per response. Some of the information entered into the MIS during the previous cooperative agreement period will be downloaded to minimize respondent burden in the new funding period, but awardees will be responsible for verifying this information and entering new objectives. After completing these steps, the estimated burden for ongoing system maintenance and semi-annual reporting is three hours per response.

For the 13 states and territories that are also participating in the demonstration program, the initial burden of populating the MIS is estimated to be six hours per response. Awardees will be responsible for entering information about the new objectives, staff, and other resources for demonstration program activities, which is not available from existing sources. Thereafter, the estimated burden for ongoing system maintenance and semi-annual reporting is estimated at three hours per response.

OMB approval will be requested for three years. CDC will use the information collection to identify training and technical assistance needs, monitor compliance with cooperative agreement requirements, evaluate progress made in achieving program-specific goals, and obtain information needed to respond to Congressional and other inquiries regarding program activities and effectiveness. Data will be collected electronically twice per year. There are no costs to respondents other than their time.

Estimated Annualized Burden Hours
Type of respondents | Form name | Number of respondents | Number of responses per respondent | Burden per response (in hr) | Total burden (in hr)
Program Director for State- or Territory-Based Cancer Prevention and Control Program | Data Elements for All CPC Programs: Initial MIS Population | 22 | 1 | 4 | 88
| Data Elements for All CPC Programs: Semi-annual Reporting | 65 | 2 | 3 | 390
State- or Territory-Based Policy Task Force Coordinator | Data Elements for CPC Demonstration Program: Initial MIS Population | 5 | 1 | 6 | 30
| Data Elements for CPC Demonstration Program: Semi-annual Reporting | 13 | 2 | 3 | 78
Total |  |  |  |  | 586

Dated: October 29, 2012.
Ron A. Otten,
Director, Office of Scientific Integrity (OSI), Office of the Associate Director for Science (OADS), Office of the Director, Centers for Disease Control and Prevention.

[FR Doc. 2012-27047 Filed 11-5-12; 8:45 am]

BILLING CODE 4163-18-P